DEPARTMENT OF COMMERCE

National Oceanic and Atmospheric Administration

RIN 0648-XE788

Endangered Species; File No. 20339

AGENCY: National Marine Fisheries Service (NMFS), National Oceanic and Atmospheric Administration (NOAA), Commerce.

ACTION: Notice; receipt of application.

SUMMARY: Notice is hereby given that the NMFS Southeast Fisheries Center (SEFSC), 75 Virginia Beach Drive, Miami, FL 33149 [Responsible Party: Bonnie Ponwith], has applied in due form for a permit to take loggerhead (Caretta caretta), Kemp's ridley (Lepidochelys kempii), green (Chelonia mydas), leatherback (Dermochelys coriacea), hawksbill (Eretmochelys imbricata), olive ridley (Lepidochelys olivacea) and unidentified sea turtles for purposes of scientific research.

DATES: Written, telefaxed, or email comments must be received on or before September 14, 2016.

ADDRESSES: The application and related documents are available for review by selecting “Records Open for Public Comment” from the “Features” box on the Applications and Permits for Protected Species (APPS) home page, https://apps.nmfs.noaa.gov, and then selecting File No. 20339 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Arturo Herrera or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The SEFSC requests a five-year permit to study sea turtles in the Atlantic Ocean, Gulf of Mexico and Caribbean Sea. Animals for study would be directly captured by trawl or obtained as legal bycatch from a commercial fishery. The purpose of this project is to assist in the development and testing of gear aboard commercial fishing vessels to mitigate interactions and capture of sea turtles. Researchers would be authorized to measure, weigh, apply a temporary carapace mark, flipper and Passive Integrated Transponder tagging, tissue sample, and photograph/video live sea turtles before release and to salvage carcasses and parts from dead sea turtles. Up to 253 loggerhead, 117 Kemp's ridley, 116 leatherback, 62 green, 41 hawksbill, 41 olive ridley and 85 unidentified sea turtles would be sampled annually.

Dated: August 9, 2016.
Julia Harrison,
Chief, Permits and Conservation Division, Office of Protected Resources, National Marine Fisheries Service.

[FR Doc. 2016-19271 Filed 8-12-16; 8:45 am]

BILLING CODE 3510-22-P